FEDERAL MARITIME COMMISSION

Ocean Transportation Intermediary License Reissuances

The Commission gives notice that the following Ocean Transportation Intermediary license has been reissued pursuant to section 19 of the Shipping Act of 1984 (46 U.S.C. 40101).

License No.: 018839NF.

Name: Aliana Express, Inc.

Address: 11100 E. Artesia Blvd., Suite #H, Cerritos, CA 90703.

Date Reissued: March 24, 2013.

James A. Nussbaumer,
Deputy Director, Bureau of Certification and Licensing.

[FR Doc. 2013-10332 Filed 5-1-13; 8:45 am]

BILLING CODE 6730-01-P